DEPARTMENT OF HEALTH AND HUMAN SERVICES

National Institutes of Health

National Cancer Institute; Amended Notice of Meeting

Notice is hereby given of a change in the meeting of the National Cancer Institute Special Emphasis Panel, March 28, 2017, 08:00 a.m. to March 29, 2017, 01:00 p.m., Hyatt Regency Bethesda, One Bethesda Metro Center, 7400 Wisconsin Avenue, Bethesda, MD 20814 which was published in the Federal Register on December 13, 2016, 81 FR 89954.

The meeting notice is amended to change the meeting dates to May 1-2, 2017. The location and time will remain the same. The meeting is closed to the public.

Dated: March 16, 2017.
Melanie J. Pantoja,
Program Analyst, Office of Federal Advisory Committee Policy.

[FR Doc. 2017-05584 Filed 3-21-17; 8:45 am]

BILLING CODE 4140-01-P